DEPARTMENT OF VETERAN AFFAIRS

Advisory Committee on VA Disability Compensation and Related Benefits; Notice of Establishment

As required by Section 9(a)(2) of the Federal Advisory Committee Act, the Department of Veterans Affairs hereby gives notice of the establishment of the Advisory Committee on VA Disability Compensation and Related Benefits. The Secretary of Veterans Affairs had determined that establishing the Committee is both necessary and in the public interest.

The Advisory Committee on VA Disability Compensation and Related Benefits will advise the Secretary of Veterans Affairs on establishing and supervising a schedule to conduct periodic reviews of each of the body systems in the VA Schedule for Rating Disabilities (VASRD), and to make recommendations on the possible expansion of VA benefits to address the impact on quality of life, the need for transition assistance, and the potential for successful rehabilitation.

Committee members will be selected by the Secretary of Veterans Affairs. The Committee's membership will be selected from among recognized experts, veterans, and others with special competence in areas such as disability claims adjudication, vocational rehabilitation, disability programs management, workers' compensation, rehabilitative medicine, mental health research, military medical services management, veterans' benefits advocacy, and survivor benefits advocacy.

Dated: August 19, 2008.
By direction of the Secretary.
E. Philip Riggin,
Committee Management Officer.

[FR Doc. E8-19659 Filed 8-25-08; 8:45 am]

BILLING CODE 8320-01-P